DEPARTMENT OF JUSTICE

Antitrust Division

Notice Pursuant to the National Cooperative Research and Production Act of 1993—National Armaments Consortium

Notice is hereby given that, on November 15, 2024, pursuant to section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Active Optical Systems, LLC, Albuquerque, NM; Advanced Cooling Technologies, Inc., Lancaster, PA; Aeon Industrial Inc., Austin, TX; AIVOT Robotics, Inc., Seattle, WA; Applied Intuition Government, Inc., Arlington, VA; AVIAN LLC, Lexington Park, MD; BladeX Technologies LLC, Palos Verdes Estates, CA; Boecore LLC, Colorado Springs, CO; Brixtel Defense, LLC, Glendive, MT; Burns & McDonnell Engineering Company, Inc., Kansas City, MO; Careen Inc., New Ulm, MN; Carnegie Mellon University, Pittsburgh, PA; Chemring Sensors and Electronic Sensors, Inc., Charlotte, NC; Davis Strategic Innovations, Inc., Huntsville, AL; Defience Systems, Inc., Owens Crossroads, AL; Dettx LLC, Southlake, TX; Ervin Industries Inc., Ann Arbor, MI; Evolution Space, Inc., Zion, IL; Fifth Gait Technologies, Inc., Santa Barbara, CA; Gambit Defense, Inc., Valley Village, CA; Integrated Consultants, Inc., San Diego, CA; ITL LLC, Hampton, VA; Kinetics, Inc., Cook, WA; Laser Welding Solutions LLC, Houston, TX; Mixed Signal Integration Corp., Freemont, CA; Ordnance Aero, Inc., Huntington Beach, CA; Oriola Government Systems, Inc., Rochester, NY; Paradigm Shift Technologies, Inc., Toronto, OK; R4 Integration, Inc., Fort Walton Beach, FL; Ravyn Technology Corp., Olean, NY; RCR Manufacturing Solutions LLC, Lexington, NC; Rebellion Defense, Inc., Washington, DC; Russell Technical Consulting Services, LLC, Huntsville, AL; Safire Technology Group, Inc., Tysons, VA; Schmitt Consulting Group LLC, Huntsville, AL; Siemens Government Technologies, Inc., Reston, VA; SIMS, Inc., Clarksville, IN; Space Information Laboratories, LLC, Santa Maria, CA; Symbiosis.io LLC, Smyrna, GA; Test & Evaluation Solutions, LLC, Warrenton, VA; Valkyrie Enterprises, LLC, Virginia Beach, VA; Vertex Modernization & Sustainment LLC, Indianapolis, IN; Virginia Tech Applied Research Corp., Arlington, VA; VJ Technologies, Bohemia, NY; and Zulu Pods, Inc., Amherst, MA, have been added as parties to this venture.

No other changes have been made in either the membership or planned activity of the group research project. Membership in this group research project remains open, and NAC intends to file additional written notifications disclosing all changes in membership.

On May 2, 2000, NAC filed its original notification pursuant to section 6(a) of the Act. The Department of Justice published a notice in the Federal Register pursuant to section 6(b) of the Act on June 30, 2000 (65 FR 40693).

The last notification was filed with the Department on May 6, 2024. A notice was published in the Federal Register pursuant to section 6(b) of the Act on September 12, 2024 (89 FR 74288).

Suzanne Morris,
Deputy Director Civil Enforcement Operations, Antitrust Division.

[FR Doc. 2025-03207 Filed 2-27-25; 8:45 am]

BILLING CODE P